DEPARTMENT OF STATE

[Public Notice 10987]

Secretary of State's Determination Under the International Religious Freedom Act of 1998 and Frank R. Wolf International Religious Freedom Act of 2016

The Secretary of State's designation of “countries of particular concern” and “special watch list” countries for religious freedom violations pursuant to Section 408(a) of the International Religious Freedom Act of 1998 (Pub. L. 105-292), as amended (the Act), notice is hereby given that, on December 18, 2019, the Secretary of State, under authority delegated by the President, has designated each of the following as a “country of particular concern” (CPC) under section 402(b) of the Act, for having engaged in or tolerated particularly severe violations of religious freedom: Burma, China, Eritrea, Iran, the Democratic People's Republic of Korea, Pakistan, Saudi Arabia, Tajikistan, and Turkmenistan. The Secretary simultaneously designated the following Presidential Actions for these CPCs:

For Burma, the existing ongoing restrictions referenced in 22 CFR 126.1, pursuant to section 402(c)(5) of the Act;

For China, the existing ongoing restriction on exports to China of crime control or detection instruments or equipment, under the Foreign Relations Authorization Act, Fiscal Years 1990 and 1991 (Pub. L. 101-246), pursuant to section 402(c)(5) of the Act;

For Eritrea, the existing ongoing restrictions referenced in 22 CFR 126.1, pursuant to section 402(c)(5) of the Act;

For Iran, the existing ongoing travel restrictions in section 221(c) of the Iran Threat Reduction and Syria Human Rights Act of 2012 (TRA) for individuals identified under section 221(a)(1)(C) of the TRA in connection with the commission of serious human rights abuses, pursuant to section 402(c)(5) of the Act;

For the Democratic People's Republic of Korea, the existing ongoing restrictions to which the Democratic People's Republic of Korea is subject, pursuant to sections 402 and 409 of the Trade Act of 1974 (the Jackson-Vanik Amendment), and pursuant to section 402(c)(5) of the Act;

For Pakistan, a waiver as required in the “important national interest of the United States,” pursuant to section 407 of the Act;

For Saudi Arabia, a waiver as required in the “important national interest of the United States,” pursuant to section 407 of the Act;

For Tajikistan, a waiver as required in the “important national interest of the United States,” pursuant to section 407 of the Act; and

For Turkmenistan, a waiver as required in the “important national interest of the United States,” pursuant to section 407 of the Act.

In addition, the Secretary of State has designated the following countries as “special watch list” countries for engaging in or tolerating severe violations of religious freedom: Comoros, Cuba, Nicaragua, Nigeria, Russia, Sudan, and Uzbekistan.

The Secretary of State's designation of “entities of particular concern” for religious freedom violations. Pursuant to Section 408(a) of the International Religious Freedom Act of 1998 (Pub. L. 105-292), notice is hereby given that, on December 18, 2019, the Secretary of State, under authority delegated by the President, has designated each of the following as an “entity of particular concern” under section 301 of the Frank R. Wolf International Religious Freedom Act of 2016 (Pub. L. 114-281), for having engaged in particularly severe violations of religious freedom: al-Nusra Front, al-Qa'ida in the Arabian Peninsula, al-Qa'ida, al-Shabab, Boko Haram, the Houthis, ISIS, ISIS-Khorasan, and the Taliban.

FOR FURTHER INFORMATION CONTACT: Howard Chyung, Office of International Religious Freedom, U.S. Department of State, (Phone: (202) 647-3865 or Email: ChyungHH@state.gov).

Daniel L. Nadel,
Director, Office of International Religious Freedom, Department of State.

[FR Doc. 2019-27787 Filed 12-23-19; 8:45 am]

BILLING CODE 4710-18-P